DEPARTMENT OF TRANSPORTATION

Federal Aviation Administration

14 CFR Part 71

[Airspace Docket No. 2000-ANE-91]

Proposed Establishment of Class D and Class E Airspace; Oxford, CT

AGENCY: Federal Aviation Administration (FAA), DOT.

ACTION: Notice of proposed rulemaking.

SUMMARY: This action proposes the establishment of Class D and Class E airspace areas at Oxford, CT (KOXC) to accommodate a new Air Traffic Control Tower at Waterbury-Oxford Airport, Oxford, Connecticut.

DATES: Comments for inclusion in the Rules Docket must be received on or before May 16, 2000.

ADDRESSES: Send comments on the proposal to: Manager, Airspace Branch, ANE-520, Federal Aviation Administration, Docket No. 2000-ANE-91, 12 New England Executive Park, Burlington, MA 01803-5299; telephone (781) 238-7520; fax (781) 238-7596. Comments may also be sent electronically via the internet to the following address: “9-ane-airspace@faa.gov”

The official docket file may be examined in the Office of the Regional Counsel, New England Region, ANE-7, Room 401, 12 New England Executive Park, Burlington, MA 01803-5299; telephone (781) 238-7050; fax (781-238-7055.

An informal docket may also be examined during normal business hours in the Air Traffic Division, Room 408, by contacting the Manager, Airspace Branch at the first address listed above.

FOR FURTHER INFORMATION CONTACT: David T. Bayley, Air Traffic Division, Airspace Branch, ANE-520.7, Federal Aviation Administration, 12 New England Executive Park, Burlington, MA 01803-5299; telephone (781) 238-7586; fax (781) 238-7596.

SUPPLEMENTARY INFORMATION:

Comments Invited

Interested persons are invited to participate in this proposed rulemaking by submitting such written data, views, or arguments as they may desire. Communications should identify the Rules Docket number and be submitted in triplicate to the address specified under the caption ADDRESSES. All communications received on or before the closing date for comments will be considered, and this rule may be amended or withdrawn in light of the comments received. Factual information that supports the commenter's ideas and suggestions is extremely helpful in evaluating the effectiveness of this action and determining whether additional rulemaking action would be needed.

Comments are specifically invited on the overall regulatory economic, environmental, and energy aspects of the rule that might suggest a need to modify the rule. All comments submitted will be available, both before and after the closing date for comments, in the Rules Docket for examination by interested persons. A report that summarizes each FAA-public contact concerned with the substance of this action will be filed in the Rules Docket.

Commenters wishing the FAA to acknowledge receipt of their comments submitted in response to this rule must submit a self-addressed, stamped postcard on which the following statement is made: “Comments to Docket No. 2000-ANE-91.” The postcard will be date stamped and returned to the commenter.

Availability of NRPM's

Any person may obtain a copy of this NRPM by submitting a request to the Federal Aviation Administration, Airspace Branch, ANE-520, Federal Aviation Administration, 12 New England Executive Park, Burlington, MA 01803-5299. Communications must identify the docket number of this NRPM. Persons interested in being placed on a mailing list for future NPRM's should also request a copy of Advisory Circular No. 11-2a, which describes the application procedure.

The Proposal

The State of Connecticut has notified the FAA that it has approved plans for the construction of a permanent Air Traffic Control Tower (ATCT) at Waterbury-Oxford Airport (KOXC), Oxford, Connecticut. Construction of the new ATCT should be complete in May 2000, and the State has applied to have the ATCT operated under the FAA Contract Tower Program. Accordingly, the State has requested that the FAA establish a Class D airspace area in vicinity of the Waterbury-Oxford Airport commensurate with the commissioning of the new ATCT. Air traffic at the Waterbury-Oxford Airport has grown over the past year and presently includes both high-speed jets and slower speed reciprocating powered light aircraft and rotorcraft.

The FAA establishes Class D airspace where necessary to provide a safe environment for aircraft transiting between the enroute and terminal airspace structures. This is particularly true when aircraft with greatly different performance characteristics operate at the same airport. Class D airspace areas encompass that airspace in the vicinity of an airport from the surface upward to a specified altitude in which pilots of aircraft must establish and maintain two-way radio communications with the ATCT at that airport. This proposal would create a Class D airspace area in the vicinity of the Waterbury-Oxford Airport extending upward from the surface to 3,200 feet MSL within a 5-mile radius of the airport.

In addition, the FAA finds that Class E airspace area, extending from the surface as an extension of the Class D airspace area, is necessary in order to provide sufficient controlled airspace to accommodate those aircraft arriving at the airport using a standard instrument approach procedure (SIAP). The Waterbury Oxford Airport has a SIAP that requires the establishment of a Class E surface airspace area extending to northwest of the airport along the TBY NDB 353° bearing to a point 7.6 miles from the airport. These proposals will provide for the safe and efficient use of the navigable airspace in the vicinity of the Waterbury-Oxford Airport, and promote safe flight operations under both Instrument Flight Rules (IFR) and Visual Flight Rules (VFR) by aircraft transiting to and from enroute airspace structure.

Class D airspace designations are published in Paragraph 5000 of FAA Order 7400.9G, and Class E airspace designations for airspace designated as extensions of a Class D airspace area are published in paragraph 6004 of FAA Order 7500.9G. FAA Order 7400.9G, dated September 1, 1999, and effective September 16, 1999, is incorporated by reference in 14 CFR 71.1. The Class D and Class E airspace designations listed in this document will be published subsequently in this Order.

Agency Findings

This rule does not have federalism implications, as defined in Executive Order 13132, because it does not have a substantial direct effect on the States, on the relationship between the national government and the States, or on the distribution of power and responsibilities among the various levels of government. Accordingly, the FAA has not consulted with state authorities prior to publication of this rule.

The FAA has determined that this regulation is noncontroversial and unlikely to result in adverse or negative comments. For the reasons discussed in the preamble, I certify that this regulation (1) Is not a “significant regulatory action“ under Executive Order 12866; (2) Is not a “significant rule” under Department of Transportation (DOT) Regulatory Policies and Procedures (44 FR 11034, February 26, 1979); and (3) Does not warrant preparation of a Regulatory Evaluation as these routine matters will only affect air traffic procedures and air navigation. It is certified that these proposed rules will not have significant economic impact on a substantial number of small entities under the criteria of the Regulatory Flexibility Act.

List of Subjects in 14 CFR Part 71

Airspace, Incorporation by references, Navigation (air).

The Proposed Amendment

Accordingly, pursuant to the authority delegated to me, the Federal Aviation Administration proposes to amend part 71 of the Federal Aviation Regulations (14 CFR part 71) as follows:

PART 71—[AMENDED]

1. The authority citation for part 71 continues to read as follows:

Authority: 49 U.S.C. 10-6(g), 40103, 40113, 40120; E.O. 10854, 24 FR 9563, 3 CFR, 1959-1963 Comp., p. 389.

2. The incorporation by reference in 14 CFR 71.1 of Federal Aviation Administration Order 7400.9G, Airspace Designations and Reporting Points, dated September 1, 1999, and effective September 16, 1999, is amended as follows:

Paragraph 5000 Class D Airspace.

* * * * *

ANE CT D Oxford, CT [New]

Waterbury-Oxford Airport, CT

(Lat. 41°28′46″N, long. 73°08′07″W

That airspace extending upward from the surface to and including 3,200 feet MSL within a 5-mile radius of Waterbury-Oxford Airport. This Class D airspace is effective during the specific dates and times established in advance by a Notice to Airmen. The effective date and time will thereafter be continuously published in the Airport/Facility Directory.

* * * * *

Paragraph 6004 Class E Airspace Areas Designated as Extensions to Class D Airspace Areas.

* * * * *

ANE CT E4 Oxford, CT [New]

Waterbury-Oxford Airport, CT

(Lat. 41°28′46″N, long. 73°08′07″W

That airspace extending upward from the surface within 3.6 miles on each side of the RBY NDB 353° bearing extending from a 5-mile radius of Waterbury-Oxford Airport to 7.6 miles northwest of the TBY NDB. This Class E airspace area is effective during the specific dates and times established in advance by a Notice to Airmen. The effective date and time will thereafter be continuously published in the Airport/Facility Directory.

* * * * *

Issued in Burlington, MA, on March 3, 2000.
William C. Yuknewicz,
Acting Manager, Air Traffic Division, New England Region.

[FR Doc. 00-6553 Filed 3-16-00; 8:45 am]

BILLING CODE 4910-13-M